FEDERAL MARITIME COMMISSION

Ocean Transportation Intermediary License Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 017080N.

Name: General Cargo & Logistics.

Address: 17828 S. Main Street, Carson, CA 90248.

Date Revoked: November 21, 2010.

Reason: Failed to maintain a valid bond.

License Number: 17715N.

Name: Yurram Corporation dba Starliner Shipping & Travel.

Address: 5305 Church Avenue, Brooklyn, NY 11203.

Date Revoked: November 28, 2010.

Reason: Failed to maintain a valid bond.

License Number: 18429F.

Name: AB Shipping, Inc.

Address: 5428 El Monte Avenue, Temple City, CA 91780.

Date Revoked: November 15, 2010.

Reason: Surrendered license voluntarily.

License Number: 019823NF.

Name: General Logistic Solutions Corp.

Address: 6701 NW. 7th Street, Suite 135, Miami, FL 33126.

Date Revoked: November 25, 2010.

Reason: Failed to maintain valid bonds.

License Number: 020198N.

Name: Pan America Marine Services.

Address: 651 West Homestead Road, No. 3, Sunnyvale, CA 94087.

Date Revoked: November 21, 2010.

Reason: Failed to maintain a valid bond.

License Number: 020445N.

Name: Freight It, Inc.

Address: 11222 La Cienega Blvd., Suite 555, Inglewood, CA 90304.

Date Revoked: November 26, 2010.

Reason: Failed to maintain a valid bond.

License Number: 020824N.

Name: Clarion Logistics USA, Inc.

Address: 1200 NW. 17th Avenue, Suite 18, Delray Beach, FL 33445.

Date Revoked: November 29, 2010.

Reason: Failed to maintain a valid bond.

License Number: 021789F.

Name: Daleray Corporation.

Address: 3350 SW. 3rd Avenue, Suite 207, Ft. Lauderdale, FL 33315.

Date Revoked: November 30, 2010.

Reason: Failed to maintain a valid bond.

License Number: 021844NF.

Name: Transport Logistics, Inc.

Address: P.O. Box 636, Oak Creek, WI 53154.

Date Revoked: November 30, 2010.

Reason: Surrendered license voluntarily.

Tanga S. FitzGibbon,
Deputy Director, Bureau of Certification and Licensing.

[FR Doc. 2010-33346 Filed 1-4-11; 8:45 am]

BILLING CODE 6730-01-P